Title 3—

The President

Memorandum of July 18, 2006

Assignment of Reporting Functions Related to Russian Debt Reduction for Nonproliferation

Memorandum for the Secretary of State

By the authority vested in me as President by the Constitution and laws of the United States, including section 301 of title 3, United States Code, and section 1321 of the Foreign Relations Authorization Act, Fiscal Year 2003 (Public Law 107-228) (the “Act”), I hereby assign to you the functions of the President under section 1321 of the Act.

You are authorized and directed to publish this memorandum in the Federal Register.

B

THE WHITE HOUSE,

Washington, July 18, 2006.

[FR Doc. 06-6580

Filed 7-27-06; 8:45 am]

Billing code 4710-10-P